ARCHITECTURAL AND TRANSPORTATION BARRIERS COMPLIANCE BOARD

36 CFR Parts 1193 and 1194

RIN 3014-AA22

Telecommunications Act Accessibility Guidelines; Electronic and Information Technology Accessibility Standards

AGENCY: Architectural and Transportation Barriers Compliance Board.

ACTION: Notice of meeting.

SUMMARY: The Architectural and Transportation Barriers Compliance Board (Access Board) has established a Telecommunications and Electronic and Information Technology Advisory Committee (Committee) to assist it in revising and updating accessibility guidelines for telecommunications products and accessibility standards for electronic and information technology. This notice announces the dates, time, and location of the next committee meeting.

DATES: The meeting is scheduled for September 4-6, 2007 (beginning at 9 a.m. and ending at 5 p.m. on each day).

ADDRESSES: The meeting will be held at the National Science Foundation. All attendees should report to the National Science Foundation, 4201 Wilson Boulevard, Arlington, VA 22230, to pick up security passes and then report to 4121 Wilson Boulevard, Stafford Place II, Room 555, Arlington, VA 22230 for the meeting.

FOR FURTHER INFORMATION CONTACT: Timothy Creagan, Office of Technical and Information Services, Architectural and Transportation Barriers Compliance Board, 1331 F Street, NW., suite 1000, Washington, DC 20004-1111. Telephone number: 202-272-0016 (Voice); 202-272-0082 (TTY). Electronic mail address: creagan@access-board.gov.

SUPPLEMENTARY INFORMATION: The Architectural and Transportation Barriers Compliance Board (Access Board) established the Telecommunications and Electronic and Information Technology Advisory Committee (Committee) to assist it in revising and updating accessibility guidelines for telecommunications products and accessibility standards for electronic and information technology. The next meeting of the Committee will take place on September 4-6, 2007.

On September 4, there will be panel discussions in the morning focusing on feedback on the Committee's current draft provisions. Following the panel presentations there will be an open discussion. After the panel presentations and open discussion are completed, the remainder of the meeting on September 4 and the meetings on September 5 and 6 will focus on discussion of outstanding issues from the following subcommittees:

• Software, Web, and Content

• General Interface Requirements and Functional Performance Criteria

• Computer Hardware

• Subpart A

• Documentation and Technical Support

• Telecommunications

• Audio/Visual

• Self Contained, Closed Products

The full agenda along with information about the Committee, including future meeting dates, is available at the Access Board's Web site (http://www.access-board.gov/sec508/update-index.htm) or at a special Web site created for the Committee's work (http://teitac.org).

Committee meetings are open to the public and interested persons can attend the meetings and communicate their views. Members of the public will have opportunities to address the Committee on issues of interest to them during public comment periods scheduled on each day of the meeting. Members of groups or individuals who are not members of the Committee are invited to participate on subcommittees; participation of this kind is very valuable to the advisory committee process.

The meeting site is accessible to individuals with disabilities. Sign language interpreters, an assistive listening system, and real-time captioning will be provided. For the comfort of other participants, persons attending Committee meetings are requested to refrain from using perfume, cologne, and other fragrances. Due to security measures at the National Science Foundation, all attendees must notify the Access Board's receptionist at 202-272-0007 or receptionist@access-board.gov by August 27, 2007 of their intent to attend the meeting. This notification is required for expeditious entry into the facility and will enable the Access Board to provide additional information as needed.

Lawrence W. Roffee,
Executive Director.

[FR Doc. E7-16635 Filed 8-22-07; 8:45 am]

BILLING CODE 8150-01-P